SURFACE TRANSPORTATION BOARD

[Docket No. FD 36810]

The Pittsburgh & Ohio Central Railroad Company—Trackage Rights Exemption—CSX Transportation, Inc.

The Pittsburgh & Ohio Central Railroad Company (POHC), a Class III rail carrier, has filed a verified notice of exemption under 49 CFR 1180.2(d)(7) to acquire trackage rights over approximately 4,640 feet (0.88 miles) of rail line owned by CSX Transportation, Inc. (CSXT), between approximately milepost PLE 5.15 and approximately milepost PLN 0.24, including over a rail bridge (the Common Rail Bridge), to access customers and rail lines on Neville Island, Pa. (the Line).

According to the verified notice, CSXT and POHC are parties by succession to a 1902 trackage rights agreement through purchases, assignments, and assumptions from predecessor railroads. CSXT has agreed to extend POHC's trackage rights over the Line pursuant to an amended and restated trackage rights agreement (Amended Agreement).¹

¹ POHC submitted a confidential version of the Amended Agreement under seal along with a corresponding motion for protective order, which will be addressed in a separate decision.

The transaction may be consummated on or after October 16, 2024, the effective date of the exemption (30 days after the verified notice was filed).

As a condition to this exemption, any employees affected by the amended trackage rights will be protected by the conditions imposed in Norfolk & Western Railway—Trackage Rights—Burlington Northern, Inc., 354 I.C.C. 605 (1978), as modified in Mendocino Coast Railway—Lease & Operate—California Western Railroad, 360 I.C.C. 653 (1980). POHC states that, because the Amended Agreement provides for the continuation of existing trackage rights, it does not expect any employees to be adversely affected.

If the verified notice contains false or misleading information, the exemption is void ab initio. Petitions to revoke the exemption under 49 U.S.C. 10502(d) may be filed at any time. The filing of a petition to revoke will not automatically stay the effectiveness of the exemption. Petitions for stay must be filed no later than October 9, 2024 (at least seven days before the exemption becomes effective).

All pleadings, referring to Docket No. FD 36810, must be filed with the Surface Transportation Board either via e-filing on the Board's website or in writing addressed to 395 E Street SW, Washington, DC 20423-0001. In addition, a copy of each pleading must be served on POHC's representative, Justin J. Marks, Clark Hill PLC, 1001 Pennsylvania Ave. NW, Suite 1300 South, Washington, DC 20004.

According to POHC, this action is categorically excluded from environmental review under 49 CFR 1105.6(c) and from historic preservation reporting requirements under 49 CFR 1105.8(b).

Board decisions and notices are available at www.stb.gov.

Decided: September 26, 2024.
By the Board, Valerie O. Quinn, Acting Director, Office of Proceedings.
Brendetta Jones,
Clearance Clerk.

[FR Doc. 2024-22589 Filed 10-1-24; 8:45 am]

BILLING CODE 4915-01-P